COMMISSION ON CIVIL RIGHTS

Notice of Public Meeting of the Nevada State Advisory Committee

AGENCY: U.S. Commission on Civil Rights.

ACTION: Announcement of public meeting.

DATES: Friday, July 29, 2016.

TIME: 1:00 p.m.-2:30 p.m. (Pacific Time).

SUMMARY: Notice is hereby given, pursuant to the provisions of the rules and regulations of the U.S. Commission on Civil Rights (Commission) and the Federal Advisory Committee Act (FACA) that a meeting of the Nevada Advisory Committee (Committee) to the Commission will be held on Friday, July 29, 2016, at the Department of Employment, Training and Rehabilitation, 2800 East St. Louis Avenue, Conference Room C, Las Vegas, NV 89104. The meeting is scheduled to begin at 1:00 p.m. and adjourn at approximately 2:30 p.m. The purpose of the meeting is for the Committee to consider and discuss potential topics for their FY17 civil rights project.

Members of the public are entitled to make comments during the open period at the end of the meeting. Members of the public may also submit written comments within thirty (30) days of the meeting. The comments must be received in the Western Regional Office of the Commission by Monday, August 29, 2016. The address is Western Regional Office, U.S. Commission on Civil Rights, 300 N. Los Angeles Street, Suite 2010, Los Angeles, CA 90012. Persons wishing to email their comments may do so by sending them to Angela French-Bell, Regional Director, Western Regional Office, at abell@usccr.gov.

Records and documents discussed during the meeting will be available for public viewing prior to and after the meeting at http://facadatabase.gov/committee/meetings.aspx?cid=261.

Please click on the “Meeting Details” and “Documents” links. Records generated from this meeting may also be inspected and reproduced at the Western Regional Office, as they become available, both before and after the meeting. Persons interested in the work of this Committee are directed to the Commission's Web site, http://www.usccr.gov, or may contact the Western Regional Office at the above email or street address.

Agenda for July 29, 2016

I. Welcome

II. Introductory Remarks

III. Orientation

IV. Discussion Regarding Potential FY17 Topics

V. Public Comment

VI. Adjournment

FOR FURTHER INFORMATION CONTACT: Angela French-Bell, DFO, at (213) 894-3437 or abell@usccr.gov.

Dated: July 18, 2016.
David Mussatt,
Chief, Regional Programs Coordination Unit.

[FR Doc. 2016-17261 Filed 7-21-16; 8:45 am]

BILLING CODE 6335-01-P